DEPARTMENT OF ENERGY

Federal Energy Regulatory Commission

[Docket No. RP03-611-001]

SCG Pipeline, Inc.; Notice of Compliance Tariff Filing

December 3, 2003.

Take notice that on December 1, 2003, SCG Pipeline, Inc. (SCG) tendered for filing as part of its FERC Gas Tariff, Original Volume No. 1, the following tariff sheets to become effective December 1, 2003:

Substitute Original Sheet No. 55

Original Sheet No. 55A

Substitute Original Sheet No. 67

Substitute Original Sheet No. 68

Original Sheet No. 68A

Substitute Original Sheet No. 69

Original Sheet No. 69A

Substitute Original Sheet No. 70

Original Sheet No. 70A

Substitute Original Sheet No. 71

Substitute Original Sheet No. 73

Substitute Original Sheet No. 85

Original Sheet No. 85A

Substitute Original Sheet No. 91

Substitute Original Sheet No. 103

Original Sheet No. 103A

Substitute Original Sheet No. 104

Original Sheet No. 104A

Substitute Original Sheet No. 124

Substitute Original Sheet No. 126

Substitute Original Sheet No. 161

SCG asserts that the purpose of its filing is to comply with the Commission's Letter Order issued October 30, 2003, at Docket No. RP03-611-000, 105 FERC ¶ 61,160. SCG states that the tariff sheets reflect revisions to SCG's September 22, 2003, FERC Gas Tariff, Original Volume No. 1, with regard to certain penalty provisions and to certain provisions related to NAESB standards.

SCG states that a copy of this filing has been served on the official service list, its customers and interested State commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00494 Filed 12-9-03; 8:45 am]

BILLING CODE 6717-01-P